DEPARTMENT OF AGRICULTURE

National Institute of Food and Agriculture

Notice of Intent To Request Approval To Establish a New Information Collection

AGENCY: National Institute of Food and Agriculture, USDA.

ACTION: Notice and request for comments.

SUMMARY: In accordance with the Office of Management and Budget (OMB) Paperwork Reduction Act of 1995, this notice announces the National Institute of Food and Agriculture's (NIFA) intent to establish a new information collection of Letters of Intent (LOIs).

DATES: Submit comments on or before January 5, 2015.

ADDRESSES: Written comments concerning this notice and requests for copies of the information collection may be submitted by any of the following methods to Robert Martin, Records Officer, Information Policy, Planning and Training Mail: NIFA/USDA; Mail Stop 2216; 1400 Independence Avenue SW.; Washington, DC 20250-2216; Hand Delivery/Courier: 800 9th Street SW., Waterfront Centre, Room 4206, Washington, DC 20024; or Email: rmartin@nifa.usda.gov.

FOR FURTHER INFORMATION CONTACT: Robert Martin, Records Officer, Information Policy, Planning and Training; Office of Information Technology; NIFA;USDANIFA, Email: rmartin@nifa.NIFA.usda.gov.

SUPPLEMENTARY INFORMATION: Title: Letter of Intent.

OMB Number: 0524-New.

Type of Request: Intent to establish a new information collection for three years.

Abstract: NIFA sponsors ongoing agricultural research, extension, and education programs under which competitive, formula, and special awards of a high-priority nature are made. The nature of the competitive, peer-reviewed process makes it important that information from applicants be available in a standardized format to ensure equitable treatment. The LOI is used to ensure applicants adhere to program guidelines and goals and provides useful information for peer review panel planning. Applicants with relevant LOIs will be encouraged to submit a full application to the program while those that do not conform to program goals are discouraged to submit a full application. Many competitive programs currently require a LOI as a prerequisite for submission of an application. To reduce an applicant's administrative burden, NIFA may expand the use of LOIs for more of its competitive programs. Electronic submission via email in an attached PDF formatted document collects the following information:

Page 1:

a. Name of lead Project Director (PD)

b. Professional Title of lead PD

c. Department of lead PD

d. Institution of lead PD

e. Email of lead PD

f. Name of all collaborating PDs

g. Professional Title of all collaborating PDs

h. Department of all collaborating PDs

i. Institution of all collaborating PDs

j. Program Area

k. Priority Area

Page 2:

a. Descriptive Title

b. Rationale

c. Overall Hypothesis or Goal

d. Specific Objectives

e. Approach

f. Potential Impact and Expected Outcomes

The information collection will collect the same information in a fillable PDF document provided by NIFA.

Respondents: Universities, non-profit institutions, State, local, or Tribal governments, and a limited number of for-profit institutions and individuals.

Estimation of Responses: The individual form burden is as follows (calculated based on a survey of LOI applicants conducted by NIFA): 1-2 hours.

Frequency of Respondents: Annually, for those that submit LOIs to required programs.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments should be sent to the address stated in the preamble. All responses to this notice will be summarized and included in the request for OMB approval. All comments also will become a matter of public record.

Done in Washington, DC, this 30th day of October 2014.
Sonny Ramaswamy,
Director, National Institute of Food and Agriculture.

[FR Doc. 2014-26404 Filed 11-5-14; 8:45 am]

BILLING CODE 3410-22-P